DEPARTMENT OF THE INTERIOR

Fish and Wildlife Service

Endangered and Threatened Species Permit Application

AGENCY: Fish and Wildlife Service, Interior.

ACTION: Notice of receipt of application.

The following applicant has applied for a scientific research permit to conduct certain activities with endangered species pursuant to sections 10(a)(1)(A) and 10(c) of the Endangered Species Act of 1973, as amended (16 U.S.C. 1531, et seq.).

Permit Number TE04-2945-1

Applicant: Melody Myers-Kinzie, Lafayette, Indiana.

The applicant requests to amend her current permit to authorize take (capture, handle, and release) of fanshell (Cyprogenia stegaria) in Indiana. The applicant currently possesses permit TE042945-0 authorizing take of northern riffleshell (Epioblasma torulosa rangiana), clubshell (Pleurobema clava), and rough pigtoe (Pleurobema plenum) in Indiana. The scientific research is aimed at enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who requests a copy from the following office within 30 days of the date of publication of this notice: U.S. Fish and Wildlife Service, Ecological Services Operations, 1 Federal Drive, Fort Snelling, Minnesota 55111-4056, peter_fasbender@fws.gov, Telephone: (612) 713-5343, or Fax: (612) 713-5292.

Dated: November 9, 2001.
Charles M. Wooley,
Acting Assistant Regional Director, Ecological Services, Region 3, Fort Snelling, Minnesota.

[FR Doc. 01-29018 Filed 11-20-01; 8:45 am]

BILLING CODE 4310-55-P